DEPARTMENT OF COMMERCE

Foreign-Trade Zones Board

[Order No. 1317]

Grant of Authority for Subzone Status; Inflation Systems, Inc. (Automotive Airbag Inflators), LaGrange, GA

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board (the Board) to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, Georgia Foreign-Trade Zone, Inc., grantee of Foreign-Trade Zone 26, has made application for authority to establish special-purpose subzone status at the automotive airbag inflator manufacturing facilities of Inflation Systems, Inc., located in LaGrange, Georgia (FTZ Docket 26-2003, filed 6-9-2003);

Whereas, notice inviting public comment was given in the Federal Register (68 FR 35856, 6-17-2003);

Whereas, the Board adopts the findings and recommendations of the examiner's report, and finds that the requirements of the FTZ Act and Board's regulations are satisfied, and that approval of the application is in the public interest;

Now, therefore, the Board hereby grants authority for subzone status at the automotive airbag inflator manufacturing facilities of Inflation Systems, Inc., located in LaGrange, Georgia (Subzone 26I), at the locations described in the application, subject to the FTZ Act and the Board's regulations, including Section 400.28.

Signed at Washington, DC, this 22nd day of January 2004.
James J. Jochum,
Assistant Secretary of Commerce for Import Administration, Alternate Chairman, Foreign-Trade Zones Board.
Dennis Puccinelli,
Executive Secretary.

[FR Doc. 04-2867 Filed 2-9-04; 8:45 am]

BILLING CODE 3510-DS-M